DEPARTMENT OF THE INTERIOR

Fish and Wildlife Service

[FWS-R8-R-2009-N0034; 81640-1265-0000-S3]

Farallon National Wildlife Refuge, San Francisco County, CA

AGENCY: Fish and Wildlife Service, Interior.

ACTION: Notice of availability of draft comprehensive conservation plan and environmental assessment for Farallon National Wildlife Refuge; reopening of comment period.

SUMMARY: We, the U.S. Fish and Wildlife Service, published a notice in the Federal Register on December 22, 2008, announcing the availability of the draft comprehensive conservation plan and environmental assessment for Farallon National Wildlife Refuge, and opening a comment period ending February 20, 2009. With this notice, we announce our decision to reopen the comment period until April 13, 2009.

DATES: We must receive your comments on or before April 13, 2009.

ADDRESSES: For information on obtaining documents and submitting comments, see “Public Review and Comment” under SUPPLEMENTARY INFORMATION.

FOR FURTHER INFORMATION CONTACT: Winnie Chan, Refuge Planner, San Francisco Bay National Wildlife Refuge Complex, (510) 792-0222 or sfbaynwrc@fws.gov.

SUPPLEMENTARY INFORMATION: The National Wildlife Refuge System Administration Act of 1966, as amended by the Refuge Improvement Act of 1997 (16 U.S.C. 668dd et seq.), requires each refuge to develop and implement a CCP. We published a notice in the Federal Register on December 22, 2008 (73 FR 78386), announcing the availability of the Draft Revised comprehensive conservation plan and environmental assessment for Farallon National Wildlife Refuge. The document identified a review period ending on February 20, 2009. Subsequent to the release of the draft CCP, we have received several requests to extend the comment period. With this notice, we announce our decision to reopen the comment period until April 13, 2009, to ensure the public has sufficient time to review the document.

To provide written comments or to request a paper copy or compact disc of the Draft CCP/EA, contact Winnie Chan, Refuge Planner, by U.S. mail at San Francisco Bay National Wildlife Refuge Complex, 9500 Thornton Avenue, Newark, CA 94560; by e-mail at sfbaynwrc@fws.gov; or by phone at (510) 792-0222. You may view or download a copy of the Draft CCP/EA at http://www.fws.gov/cno/refuges/farallon/. Copies of the Draft CCP/EA may be viewed at the San Francisco Bay National Wildlife Refuge Complex, 1 Marshlands Road, Fremont, CA 94536; the San Francisco Public Library, Federal Documents, 100 Larkin Street, San Francisco, CA 94102; or the California/Nevada Refuge Planning Office, 2800 Cottage Way, W-1832, Sacramento, CA 95825.

Before including your address, phone number, e-mail address, or other personal identifying information in your comment, you should be aware that your entire comment—including your personal identifying information—may be made publicly available at any time. While you can ask us in your comment to withhold your personal identifying information from public review, we cannot guarantee that we will be able to do so.

Dated: March 6, 2009.
Ren Lohoefener,
Regional Director, Pacific Southwest Region, Sacramento, California.

[FR Doc. E9-5392 Filed 3-11-09; 8:45 am]

BILLING CODE 4310-55-P